DEPARTMENT OF HEALTH AND HUMAN SERVICES

Health Resources and Services Administration

42 CFR Part 102

RIN 0906-AA61

Smallpox Vaccine Injury Compensation Program: Administrative Implementation; Correction

AGENCY: Health Resources and Services Administration, HHS.

ACTION: Corrections to interim final rule.

SUMMARY: This document contains corrections to the interim final rule published on Tuesday, December 16, 2003, (68 FR 70080). The regulations related to the administrative implementation of the Smallpox Vaccine Injury Compensation Program.

EFFECTIVE DATE: December 16, 2003.

FOR FURTHER INFORMATION CONTACT: Paul T. Clark, Director, Smallpox Vaccine Injury Compensation Program, telephone 1-888-496-0338. This is a toll-free number. Electronic inquiries should be sent to smallpox@hrsa.gov.

SUPPLEMENTARY INFORMATION: This document corrects interim final regulations that implement the Smallpox Vaccine Injury Compensation Program. This program is designed to provide benefits and/or compensation to certain persons harmed as a direct result of receiving smallpox covered countermeasures or as a result of exposure to vaccinia. As published, the final regulations contain editorial errors that are in need of correction.

Correction of Publication

Accordingly, the interim final rules published on December 16, 2003 are corrected as follows:

On page 70096, in the second column, instruction 4 is corrected to read as follows:

“4. In part 102, add §§ 102.30-102.92 to read as follows:”

Technical Amendments

§ 102.3 [Amended]

Section 102.3 is amended as follows:

1. Paragraphs (g)(2)(A) and (g)(2)(B) are correctly designated as paragraphs (g)(2)(i) and (g)(2)(ii).

2. Paragraphs (bb)(2)(A) and (bb)(2)(B) are correctly designated as paragraphs (bb)(2)(i) and (bb)(2)(ii).

§ 102.51 [Amended]

Section 102.51 is amended as follows:

3. Paragraphs (a)(2)(A) and (a)(2)(B) are correctly designated as paragraphs (a)(2)(i) and (a)(2)(ii).

4. In paragraph (b) the cross-reference “(a)(2)(A)-(B)” is revised to read “(a)(2)(i) and (ii)”.

§ 102.81 [Amended]

5. In § 102.81, paragraphs (a)(1)(A) and (a)(1)(B) are correctly designated as paragraphs (a)(1)(i) and (a)(1)(ii).

§ 102.82 [Amended]

Section 102.82 is amended as follows:

6. Paragraphs (b)(2)(A) and (b)(2)(B) are correctly designated as paragraphs (b)(2)(i) and (b)(2)(ii).

7. Paragraphs (d)(2)(A) and (d)(2)(B) are correctly designated as paragraphs (d)(2)(i) and (d)(2)(ii).

8. In paragraph (d)(3) the cross-reference “(d)(3)(A)” is revised to read “(d)(3)(i)'.

9. In paragraph (d)(3), paragraphs (d)(3)(A), (i), (ii), (iii), and (B) are correctly designated as paragraphs (d)(3)(i), (A), (B), (C), and (ii) respectively.

Dated: February 10, 2004.
Ann C. Agnew,
Executive Secretary to the Department.

[FR Doc. 04-3331 Filed 2-13-04; 8:45 am]

BILLING CODE 4165-15-P